DEPARTMENT OF COMMERCE

International Trade Administration

[A-428-830]

Notice of Initiation of New Shipper Antidumping Duty Review: Stainless Steel Bar from Germany

AGENCY: Import Administration, International Trade Administration, Department of Commerce.

SUMMARY: The Department of Commerce (“the Department”) has received a request for a new shipper review of the antidumping duty order on Stainless Steel Bar (“SSB”) from Germany published on March 7, 2002 (67 FR 10382). In accordance with section 751(a)(2)(B) of the Tariff Act of 1930, as amended (“the Act”), and 19 CFR 351.214(d), we are initiating an antidumping new shipper review of Flanschenwerk Bebitz GmbH (“Flanschenwerk”).

EFFECTIVE DATE: October 26, 2007.

FOR FURTHER INFORMATION CONTACT: Brandon Farlander or Damian Felton, AD/CVD Operations, Office 1, Import Administration, International Trade Administration, U.S. Department of Commerce, 14th Street and Constitution Avenue, NW, Washington, DC 20230; telephone: (202) 482-0182 or (202) 482-0133, respectively.

SUPPLEMENTARY INFORMATION: The Department received a timely request from Flanschenwerk, in accordance with 19 CFR 351.214(c), for a new shipper review of the antidumping duty order on SSB from Germany, which has a September semiannual anniversary month.

Pursuant to section 751(a)(2)(B)(i)(I) of the Act and 19 CFR 351.214(b)(2)(i), Flanschenwerk, an exporter and producer of the subject merchandise, certified that it did not export subject merchandise to the United States during the period of investigation (“POI”) (October 1, 1999, through September 30, 2000). Pursuant to section 751(a)(2)(B)(i)(II) of the Act and 19 CFR 351.214(b)(2)(iii)(A), Flanschenwerk also certified that since the initiation of the investigation it has not been affiliated with any exporter or producer who exported the subject merchandise to the United States during the POI, including those not individually examined during the investigation. Pursuant to 19 CFR 351.214(b)(2)(iv), Flanschenwerk also submitted documentation establishing the date on which its SSB was first shipped for export to the United States, the volume of that shipment, and the date of the first sale to an unaffiliated customer in the United States.

The Department conducted a query of the U.S. Customs and Border Protection (“CBP”) database to confirm that Flanschenwerk's shipment of subject merchandise had entered the United States for consumption and has been suspended for antidumping duties. The Department also corroborated Flanschenwerk's assertion that it made no subsequent shipments to the United States by reviewing CBP data.

Scope of the Order

For the purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The SSB subject to this order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of the order is dispositive.

Initiation of Review

Based on the information on the record and in accordance with section 751(a)(2)(B) of the Act and 19 CFR 351.214(d)(1), we have determined that Flanschenwerk has met the statutory and regulatory requirements for the initiation of a new shipper review. Thus, we are initiating a new shipper review of the antidumping duty order on SSB from Germany (produced and exported) by Flanschenwerk. Because we are initiating this new shipper review in the month immediately following the semiannual anniversary month, this review covers the period from March 1, 2007, through August 31, 2007, in accordance with 19 CFR 351.214(g)(1)(i)(B). We intend to issue the preliminary results of this review no later than 180 days after the date on which this review is initiated, and the final results within 90 days after the date on which we issue the preliminary results. See section 751(a)(2)(B)(iv) of the Act.

On August 17, 2006, the Pension Protection Act of 2006 (“H.R. 4”) was signed into law. Section 1632 of H.R. 4 temporarily suspends the authority of the Department to instruct CBP to collect a bond or other security in lieu of a cash deposit in new shipper reviews. Therefore, the posting of a bond under section 751(a)(B)(iii) of the Act in lieu of a cash deposit is not available in this case. Importers of SSB manufactured and exported by Flanschenwerk must continue to post cash deposits of estimated antidum ping duties on each entry of subject merchandise (i.e., SSB) at the current all-others rate of 15.16 percent, established in Implementation of the Findings of the WTO Panel in US-Zeroing (EC): Notice of Determination Under Section 129 of the Uruguay Round Agreements Act and Revocations and Partial Revocations of Certain Antidumping Duty Orders, 72 FR 25261, 25262 (May 4, 2007).

Interested parties may submit applications for disclosure under administrative protective order in accordance with 19 CFR 351.305 and 351.306.

This initiation and notice are in accordance with section 751(a)(2)(B) of the Act, 19 CFR 351.214(d) and 19 CFR 351.221(c)(1)(i).

Dated: October 22, 2007.
Stephen J. Claeys,
Deputy Assistant Secretary for Import Administration.

[FR Doc. E7-21109 Filed 10-25-07; 8:45 am]

BILLING CODE 3510-DS-S